DEPARTMENT OF HOMELAND SECURITY

[Docket No. DHS-2017-0031]

The President's National Infrastructure Advisory Council

AGENCY: National Protection and Programs Directorate, DHS.

ACTION: Committee management; notice of an open Federal Advisory Committee meeting.

SUMMARY: The President's National Infrastructure Advisory Council (NIAC) will meet Tuesday, August 22, 2017, in Washington, DC.

DATES: The NIAC will meet on Tuesday, August 22, 2017 9:00 a.m.-12:00 p.m. Eastern Standard Time (EST).

ADDRESSES: Eisenhower Executive Office Building, Washington, DC. Due to limited seating, requests to attend in person will be accepted and processed in the order in which they are received. The meeting's proceedings will also be available via Webcast at www.whitehouse.gov/live, for those who cannot attend in person. Individuals who intend to participate in the meeting will need to register by sending an email to NIAC@hq.dhs.gov by 5:00 p.m. EST on Wednesday, August 16, 2017. For information on facilities or services for individuals with disabilities, or to request special assistance at the meeting, please contact NIAC@hq.dhs.gov as soon as possible.

Members of the public are invited to provide comment on the issues to be considered by the committee as listed in the SUPPLEMENTARY INFORMATION section below. Associated briefing materials to be discussed at the meeting will be available at www.dhs.gov/niac for review on Friday, August 11, 2017. Comments may be submitted at any time and must be identified by docket number DHS-2017-0031.

Comments may be submitted by one of the following methods:

• Federal eRulemaking Portal: www.regulations.gov. Follow “submitting written comments” instructions.

• Email: NIAC@hq.dhs.gov. Include the docket number DHS-2017-0031 in the subject line of the message.

• Fax: (703) 235-9707, ATTN: Deidre Gallop-Anderson.

• Mail: Designated Federal Officer, National Infrastructure Advisory Council, National Protection and Programs Directorate, Department of Homeland Security, 245 Murray Lane, Mail Stop 0612, Arlington, VA 20598-0612.

Instructions: All submissions received must include the words “Department of Homeland Security” and the docket number for this action. Written comments will be posted without alteration at www.regulations.gov, including any personal information provided.

Docket: For access to the docket and comments received by the NIAC, please go to www.regulations.gov and enter docket number DHS-2017-0031.

A public comment period will be held during the meeting from 2:15 p.m.-2:35 p.m. Speakers who wish to participate in the public comment period must register in advance and can do so by emailing NIAC@hq.dhs.gov by no later than Wednesday, August 16, 2017, at 5:00 p.m. EST. Speakers are requested to limit their comments to three minutes. Please note that the public comment period may end before the time indicated, following the last call for comments.

FOR FURTHER INFORMATION CONTACT: Ginger Norris, NIAC Designated Federal Officer, Department of Homeland Security, (202) 441-5885 (telephone) or ginger.norris@hq.dhs.gov (email).

SUPPLEMENTARY INFORMATION: Notice of this meeting is given under the Federal Advisory Committee Act, 5 U.S.C. Appendix (Pub. L. 92-463). The NIAC shall provide the President, through the Secretary of Homeland Security, with advice on the security and resilience of the Nation's critical infrastructure sectors.

Agenda: The council will meet in an open meeting on August 22, 2017, to receive remarks from DHS leadership and other senior Government officials regarding the Government's current cybersecurity initiatives priorities. Additionally, the council will deliberate and vote on recommendations for their current NIAC Cyber Security Study as tasked in support of Executive Order 13636 Improving Critical Infrastructure Cybersecurity.

Dated: July 20, 2017.
Deirdre Gallop-Anderson,
Alternate Designated Federal Officer for the National Infrastructure Advisory Council.

[FR Doc. 2017-15747 Filed 7-26-17; 8:45 am]

BILLING CODE 9110-9P-P